DEPARTMENT OF COMMERCE

International Trade Administration

[A-570-990, A-201-843]

Prestressed Concrete Steel Rail Tie Wire From Mexico and the People's Republic of China: Final Results of Sunset Reviews and Revocation of Antidumping Duty Orders

AGENCY: Enforcement and Compliance, International Trade Administration, Department of Commerce.

SUMMARY: On May 1, 2019, the Department of Commerce (Commerce) initiated the sunset reviews of the antidumping duty orders on prestressed concrete steel rail tie wire (PC tie wire) from Mexico and the People's Republic of China (China). Because the domestic interested parties did not participate in these sunset reviews, Commerce is revoking these antidumping duty orders.

DATES: Applicable June 10, 2019.

FOR FURTHER INFORMATION CONTACT: Samantha Kinney, AD/CVD Operations, Office VIII, Enforcement and Compliance, International Trade Administration, U.S. Department of Commerce, 1401 Constitution Avenue NW, Washington, DC 20230; telephone: 202-482-2285.

SUPPLEMENTARY INFORMATION:

Background

On June 24, 2014, Commerce issued antidumping duty orders on PC tie wire from Mexico and China.¹ On May 1, 2019, Commerce initiated the first sunset reviews on these orders pursuant to section 751(c) of the Tariff Act of 1930, as amended (the Act) and 19 CFR 351.218.²

¹ See Prestressed Concrete Steel Rail Tie Wire from Mexico and the People's Republic of China: Antidumping Duty Orders, 79 FR 35727 (June 24, 2014) (PC Tie Wire from Mexico and PRC Orders).

² See Initiation of Five-Year (Sunset) Reviews, 84 FR 18477 (May 1, 2019).

We did not receive a notice of intent to participate from domestic interested parties in either sunset review by the deadline date.³ As a result, Commerce determined that no domestic interested party intends to participate in the sunset reviews.⁴ Pursuant to 19 CFR 351.218(d)(1)(iii)(B)(2), on May 21, 2019, we notified the International Trade Commission in writing that we intended to issue a final determination revoking the antidumping duty orders on PC tie wire from Mexico and China.⁵

³ See 19 CFR 351.218(d)(1)(i).

⁴ See 19 CFR 351.218(d)(1)(iii)(A).

⁵ See Commerce's Letter, “Sunset Reviews Initiated on May 1, 2019,” dated May 21, 2019.

Scope of the Orders

The products covered by these orders are high carbon steel wire; stress relieved or low relaxation; indented or otherwise deformed; meeting at a minimum the physical, mechanical, and chemical requirements of the American Society of Testing Materials (ASTM) A881/A881M specification; regardless of shape, size, or other alloy element levels; suitable for use as prestressed tendons in concrete railroad ties (“PC tie wire”). High carbon steel is defined as steel that contains 0.6 percent or more of carbon by weight.

PC tie wire is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000 and 7312.10.3012. Although the HTSUS subheadings are provided for convenience and customs purposes, the written description of the scope of the orders is dispositive.

Revocation

Pursuant to section 751(c)(3)(A) of the Act, and 19 CFR 351.218(d)(1)(iii)(B)(3), if no domestic interested parties respond to a notice of initiation, Commerce shall, within 90 days after the date of publication of the notice of initiation of the review, revoke the order. Because no domestic interested party filed a notice of intent to participate in these sunset reviews, we are revoking these antidumping duty orders on PC tie wire from Mexico and China.

Effective Date of Revocation

Pursuant to sections 751(c)(3)(A) and 751(c)(6)(A)(iii) of the Act and 19 CFR 351.222(i)(2)(i), Commerce intends to instruct U.S. Customs and Border Protection to terminate the suspension of liquidation of, and discontinue the collection of AD cash deposits on, the merchandise subject to the antidumping duty orders on PC tie wire from Mexico and China entered, or withdrawn from warehouse, on or after June 24, 2019, the fifth anniversary of the date on which Commerce published in the Federal Register notice of these antidumping duty orders.⁶ Entries of subject merchandise prior to the effective date of revocation will continue to be subject to suspension of liquidation and antidumping duty deposit requirements. Commerce will complete any pending administrative reviews of these orders and will conduct administrative reviews of subject merchandise entered prior to the effective date of revocation in response to appropriately filed requests for review.

⁶ See PC Tie Wire from Mexico and PRC Orders.

These five-year (sunset) reviews and this notice are issued and published in accordance with sections 751(c) and 777(i)(1) of the Act, and 19 CFR 351.218(f)(4).

Dated: June 4, 2019.
Jeffrey I. Kessler,
Assistant Secretary for Enforcement and Compliance.

[FR Doc. 2019-12133 Filed 6-7-19; 8:45 am]

BILLING CODE 3510-DS-P